DEPARTMENT OF HEALTH AND HUMAN SERVICES

Centers for Disease Control and Prevention

Board of Scientific Counselors, National Center for Environmental Health/Agency for Toxic Substances and Disease Registry (BSC, NCEH/ATSDR)

In accordance with section 10(a)(2) of the Federal Advisory Committee Act (Pub. L. 92-463), the Centers for Disease Control and Prevention (CDC), announces the following meeting of the aforementioned committee:

Times and Dates:

8:30 a.m.-4:30 p.m., EST, December 1, 2015.

8:30 a.m.-11:30 a.m., EST, December 2, 2015.

Place: CDC, 4770 Buford Highway, Atlanta, Georgia 30341.

Status: Open to the public, limited only by the space available. The meeting room accommodates approximately 60 people.

Purpose: The Secretary, Department of Health and Human Services (HHS) and by delegation, the Director, CDC and Administrator, NCEH/ATSDR, are authorized under Section 301 (42 U.S.C. 241) and Section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and wellbeing; and (3) train state and local personnel in health work. The BSC, NCEH/ATSDR provides advice and guidance to the Secretary, HHS; the Director, CDC and Administrator, ATSDR; and the Director, NCEH/ATSDR, regarding program goals, objectives, strategies, and priorities in fulfillment of the agency's mission to protect and promote people's health. The board provides advice and guidance that will assist NCEH/ATSDR in ensuring scientific quality, timeliness, utility, and dissemination of results. The board also provides guidance to help NCEH/ATSDR work more efficiently and effectively with its various constituents and to fulfill its mission in protecting America's health.

Matters for Discussion: The agenda items for the BSC Meeting will include NCEH/ATSDR Office of the Director Updates; NCEH/ATSDR Program Responses to BSC Guidance and Action Items; Update on the NCEH/ATSDR Strategic Plan; Approach to Addressing Perfluorinated Chemicals (PFCs) at Hazardous Waste Sites; The Role of Environmental Health Services in Legionnaires Disease; Parking Prices and Active Commuting: an Ecological Analysis of U.S. Cities and updates from the National Institute for Environmental Health Services, National Institute for Occupational Safety and Health, U.S. Department of Energy and the U.S. Environmental Protection Agency.

Agenda items are subject to change as priorities dictate.

Supplemental Information: The public comment period is scheduled Tuesday, December 1, 2015 from 4:15 p.m. until 4:30 p.m., and Wednesday, December 2, 2015 from 10:30 a.m. until 10:45 a.m.

Contact Person for More Information: Sandra Malcom, Committee Management Specialist, NCEH/ATSDR, 4770 Buford Highway, Mail Stop F-45, Chamblee, Georgia 30345; Telephone 770/488-0575 or 770/488-0577, Fax: 770/488-3377; Email: smalcom@cdc.gov. The deadline for notification of attendance is November 24, 2015. The Director, Management Analysis and Services Office, has been delegated the authority to sign Federal Register notices pertaining to announcements of meetings and other committee management activities for both the Centers for Disease Control and Prevention and the Agency for Toxic Substances and Disease Registry.

Catherine Ramadei,
Acting Director, Management Analysis and Services Office, Centers for Disease Control and Prevention.

[FR Doc. 2015-27562 Filed 10-28-15; 8:45 am]

BILLING CODE 4163-18-P